DEPARTMENT OF HEALTH AND HUMAN SERVICES

Decision To Evaluate a Petition To Designate a Class of Employees From the Westinghouse Electric Corp. in Bloomfield, New Jersey, To Be Included in the Special Exposure Cohort

AGENCY: National Institute for Occupational Safety and Health (NIOSH), Centers for Disease Control and Prevention, HHS.

ACTION: Notice.

SUMMARY: NIOSH gives notice as required by 42 CFR 83.12(e) of a decision to evaluate a petition to designate a class of employees from the Westinghouse Electric Corp. in Bloomfield, New Jersey, to be included in the Special Exposure Cohort under the Energy Employees Occupational Illness Compensation Program Act of 2000. The initial proposed definition for the class being evaluated, subject to revision as warranted by the evaluation, is as follows:

Facility: Westinghouse Electric Corp.

Location: Bloomfield, New Jersey.

Job Titles and/or Job Duties: All employees who worked in any plant production area.

Period of Employment: January 1, 1950 through March 1, 2011.

FOR FURTHER INFORMATION CONTACT: Stuart L. Hinnefeld, Director, Division of Compensation Analysis and Support, National Institute for Occupational Safety and Health, 1090 Tusculum Avenue, MS C-46, Cincinnati, OH 45226-1938, Telephone 877-222-7570. Information requests can also be submitted by email to DCAS@CDC.GOV.

John Howard,
Director, National Institute for Occupational Safety and Health.

[FR Doc. 2015-01056 Filed 1-21-15; 8:45 am]

BILLING CODE 4163-19-P